DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Health Literacy Item Set Supplemental to CAHPS Health Plan Survey—Pretest of Proposed Questions and Methodology.” In accordance with the Paperwork Reduction Act, 44 U.S.C. 3501-3521, AHRQ invites the public to comment on this proposed information collection.

This proposed information collection was previously published in the Federal Register on July 7th, 2011 and allowed 60 days for public comment. No comments were received. The purpose of this notice is to allow an additional 30 days for public comment.

DATES: Comments on this notice must be received by October 17, 2011.

ADDRESSES: Written comments should be submitted to: AHRQ's OMB Desk Officer by fax at (202) 395-6974 (attention: AHRQ's desk officer) or by e-mail at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@AHRQ.hhs.gov.

SUPPLEMENTARY INFORMATION:

Proposed Project

Health Literacy Item Set Supplemental to CAHPS Health Plan Survey—Pretest of Proposed Questions and Methodology

The Consumer Assessment of Healthcare Providers and Systems (CAHPS®) program is a multi-year initiative. AHRQ first launched the program in October 1995 in response to concerns about the lack of good information about the quality of health plans from the enrollees' perspective. Numerous public and private organizations collected information on enrollee and patient satisfaction, but the surveys varied from sponsor to sponsor and often changed from year to year. The CAHPS® program was designed to:

• Make it possible to compare survey results across sponsors and over time; and

• Generate tools and resources that sponsors can use to produce understandable and usable comparative information for consumers, health providers and for quality improvement purposes.

Over time, the program has expanded beyond its original focus on health plans to address a range of health care services and to meet the various needs of health care consumers, purchasers, health plans, providers, and policymakers. Based on a literature review and an assessment of currently available questionnaires, AHRQ identified the need to develop a health literacy module for the CAHPS® Health Plan Survey. The intent of the health literacy module is to examine health plan enrollees' perspectives on how well health information is communicated to them by health plans and by healthcare professionals in the health plan setting. The objective of the new module is to provide information to health plans, clinicians, group practices, and other interested parties regarding the quality of health information delivered to patients. The health literacy module will be pre-tested as a supplement to the CAHPS® Health Plan Survey.

This pre-test has the following goals:

(1) Analysis of item wording—Assess candidate wordings for items.

(2) Analysis of participation rate—Evaluate the overall response rate and the proportion of that obtained from mail versus telephone modes of data collection.

(3) Case mix adjustment analysis—Evaluate variables that need to be considered for case mix adjustment of scores.

(4) Psychometric Analysis—Provide information for the revision of the health literacy item set based on the assessment of the reliability and validity.

(5) Dissemination of the CAHPS Health Plan Health Literacy supplemental item set.

This study is being conducted by AHRQ through its contractor, the RAND Corporation, pursuant to AHRQ's statutory authority to conduct research and evaluations on health care and systems for the delivery of such care, including activities with respect to the quality, effectiveness, efficiency, appropriateness and value of health care services. See 42 U.S.C. 299a(a)(1).

Method of Collection

To achieve the goals of this pre-test the CAHPS Health Plan Health Literacy Survey will be implemented with a sample of persons from the surveys' target population, consumers of health care services offered by health plans. The data from this pre-test will be used to refine the health literacy module questions and will ensure that the future data collection yield high quality data and ensure a minimization of respondent burden, increase agency efficiency, and improve responsiveness to the public. The survey items will be added to currently available CAHPS surveys and will enhance the ability of health plans and health professionals working in a health plan primary care setting to assess the quality of their services.

Estimated Annual Respondent Burden

Exhibit 1 shows the estimated annualized burden for the respondents' time to participate in this data collection. About 1000 persons will complete the CAHPS Health Plan Survey Health Literacy Module. The estimated response time of 25 minutes is based on the written length of the survey and AHRQ's experience with previous CAHPS® surveys of comparable length that were fielded with similar samples. The total burden hours are estimated to be 417 hours.

Exhibit 2 shows the respondents' cost burden associated with their time to participate in this data collection. The total cost burden is estimated to be $8,715.

Exhibit 1—Estimated Annualized Burden Hours
Form name | Number of respondents | Number of responses per respondent | Hours per response | Total burden hours
CAHPS Health Plan Health Literacy Module | 1000 | 1 | 25/60 | 417
Total | 1000 | 1 | na | 417

Exhibit 2—Estimated Annualized Cost Burden
Form name | Number of respondents | Total burden hours | Average hourly wage rate* | Total cost burden
CAHPS Health Plan Health Literacy Survey | 1000 | 417 | $20.90 | $8,715
Total | 1000 | 417 | na | 8,715
*Based upon the average wages, “National Compensation Survey: Occupational Wages in the United States, May 2009,” U.S. Department of Labor, Bureau of Labor Statistics.

Estimated Annual Costs to the Federal Government

Exhibit 3 shows the total and annualized cost to conduct this research. The total cost for this project is approximately $299,000. Since the data collection period is less than one year, the total and annualized costs are identical.

Exhibit 3—Estimated Annualized Cost
Cost component | Total cost | Annualized cost
Review of literature | $20,000 | $20,000
Cognitive interviews | 60,000 | 60,000
Field test | 90,000 | 90,000
Data analyses | 40,000 | 40,000
Finalize survey | 39,000 | 39,000
AHRQ project management | 50,000 | 50,000
Total | 299,000 | 299,000

Request for Comments

In accordance with the Paperwork Reduction Act, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: Aug 31 2011.
Carolyn M. Clancy,
Director.

[FR Doc. 2011-23543 Filed 9-14-11; 8:45 am]

BILLING CODE 4160-90-M